DEPARTMENT OF COMMERCE

International Trade Administration

[A-423-808, A-449-804, A-405-803, A-475-818, A-421-811, A-469-807, A-475-703, A-588-845]

Notice of Implementation of Determination Under Section 129 of the Uruguay Round Agreements Act: Stainless Steel Plate in Coils From Belgium, Steel Concrete Reinforcing Bars From Latvia, Purified Carboxymethylcellulose From Finland, Certain Pasta From Italy, Purified Carboxymethylcellulose From the Netherlands, Stainless Steel Wire Rod From Spain, Granular Polytetrafluoroethylene Resin From Italy, Stainless Steel Sheet and Strip in Coils From Japan

AGENCY: Import Administration, International Trade Administration, Department of Commerce.

SUMMARY: On June 8, 2012, the U.S. Trade Representative (“USTR”) instructed the Department of Commerce (“Department”) to implement its determinations under section 129 of the Uruguay Round Agreements Act (“URAA”) regarding the recalculation of cash deposit rates for estimated antidumping duties currently in effect for certain companies, in a manner which renders them not inconsistent with the World Trade Organization (“WTO”) dispute settlement findings in US-Zeroing (EC),¹ US-Continued Zeroing (EC),² and US-Zeroing (Japan).³ The Department issued its determinations in the Final Results of its section 129 proceedings⁴ on June 6, 2012. The Department is now implementing these Final Results.

¹ United States-Laws, Regulations and Methodology for Calculating Dumping Margins (“Zeroing”), WT/DS294/R, WT/DS294/AB/R, adopted May 9, 2006; United States-Laws, Regulations and Methodology for Calculating Dumping Margins (“Zeroing”), Recourse to Article 21.5 of the DSU by the European Communities, WT/DS294/AB/RW, adopted June 11, 2009 (collectively “US-Zeroing (EC)”).

² United States-Continued Existence and Application of Zeroing Methodology, WT/DS350/R, WT/DS350/AB/R, adopted February 19, 2009 (“US-Continued Zeroing (EC)”).

³ United States-Measures Related to Zeroing and Sunset Reviews, WT/DS322/R, WT/DS322/AB/R, adopted January 23, 2007; United States-Measures Related to Zeroing and Sunset Reviews, Recourse to Article 21.5 of the DSU by Japan, WT/DS322/AB/RW, adopted August 31, 2009 (collectively “US-Zeroing (Japan)”).

⁴ Memorandum from Christian Marsh, Deputy Assistant Secretary for Antidumping and Countervailing Duty Operations, to Paul Piquado, Assistant Secretary for Import Administration, Final Results of Proceedings Under Section 129: Stainless Steel Plate in Coils from Belgium, Steel Concrete Reinforcing Bars from Latvia, Purified Carboxymethylcellulose from Finland, Certain Pasta from Italy, Purified Carboxymethylcellulose from the Netherlands, Stainless Steel Wire Rod from Spain, Granular Polytetrafluoroethylene Resin from Italy, Stainless Steel Sheet and Strip in Coils from Japan (“Final Results”).

DATES: Effective Date: June 8, 2012.

FOR FURTHER INFORMATION CONTACT: Sapna Sharma, James Maeder, or Michael Rill, Import Administration, International Trade Administration, U.S. Department of Commerce, 14th Street and Constitution Avenue NW, Washington, DC 20230; telephone: (202) 482-5285, (202) 482-3330, or (202) 482-3058, respectively.

SUPPLEMENTARY INFORMATION:

Background

On February 13, 2012, the USTR requested, pursuant to section 129 of the URAA, that the Department render the cash deposit rates currently in effect for certain companies not inconsistent with the WTO Dispute Settlement Body's (“DSB”) recommendations and rulings in US-Zeroing (EC), US-Continued Zeroing (EC), and US-Zeroing (Japan). Subsequently, on February 21, 2012, the Department initiated section 129 proceedings for the completed administrative reviews corresponding to the request from the USTR. In each section 129 proceeding, the Department recalculated the cash deposit rates for certain companies, as specified by the USTR, applying the calculation methodology described in Antidumping Proceedings: Calculation of the Weighted-Average Dumping Margin and Assessment Rate in Certain Antidumping Duty Proceedings; Final Modification, 77 FR 8101 (February 14, 2012) (“Final Modification for Reviews”). The Department has recalculated the current cash deposit rates for these specified companies, listed in the table below, in a manner paralleling the WTO-consistent methodology that the Department applies in antidumping investigations.

⁵ On April 12, 2012, the Department determined that Aperam Stainless Belgium N.V. is the successor-in-interest to ArcelorMittal Stainless Belgium N.V. Stainless Steel Plate in Coils from Belgium: Notice of Final Results of Antidumping Duty Changed Circumstances Review, 77 FR 66,271 (April 12, 2012). Therefore, although the request from the USTR identified ArcelorMittal Stainless Belgium N.V. as the respondent from the underlying final results, the recalculated cash deposit rate will be applied to Aperam Stainless Belgium N.V. (“ASB”).

⁶ The full name of the company concerning this review is CP Kelco Oy.

⁷ The full names of the companies concerning this review are: Pastificio Lucio Garofalo S.p.A. (“Garofalo”), Molino e Pastificio Tomasello S.p.A. (“Tomasello”), Agritalia S.r.L. (“Agritalia”), Domenico Paone fu Erasmo S.p.A. (“Erasmo”), Industria Alimentare Colavita, S.p.A. (“Indalco”), Labor S.r.L. (“Labor”), PAM S.p.A. and its affiliate, Liguori Pastificio dal 1820 S.p.A. (“PAM”), P.A.P. SNC Di Pazienza G.B. & C. (“P.A.P”), Premiato Pastificio Afeltra S.r.L. (“Afeltra”), Pastificio Fabianelli S.p.A. (“Fabianelli”), Pastificio Riscossa F.lli Mastromauro S.p.A. (“Riscossa”), and Rustichella d'Abruzzo S.p.A (“Rustichella”).

⁸ Pasta Lensi S.r.l. (“Pasta Lensi”) was found to be the successor-in-interest to Italian American Pasta Company Italia S.r.l. (“IAPC”) for purposes of determining antidumping (and countervailing duty) liability. See Notice of Final Results of Antidumping and Countervailing Duty Changed Circumstances Reviews: Certain Pasta From Italy, 68 FR 41553 (July 17, 2003).

⁹ The full name of this company is Pastificio Fratelli Pagani S.p.A. (“Pagani”).

¹⁰ The full names of the companies concerning this review are: F. Divella SpA (“Divella”), Pasta Zara SpA 1 and Pasta Zara SpA 2 (collectively, “Pasta Zara”), Pastificio Di Martino Gaetano & F. lli SrL (“Gaetano”), and Pastificio Felicetti SrL (“Felicetti”).

¹¹ The full names of the companies concerning this review are: Atar, S.r.L. (“Atar”) and Corticella Molinie Pastifici S.p.A. and its affiliate Pasta Combattenti S.p.A. (collectively,”Corticella/Combattenti”).

¹² The full name of this company is G.e.R. Barilla Fratelli, S.p.A.

¹³ The full name of this collapsed entity is Pastificio Carmine Russo S.p.A./Pastificio De Nola S.p.A.

¹⁴ The full name of this company is La Molisana Industrie Alimentari S.p.A.

¹⁵ The full name of this company is Akzo Nobel Functional Chemicals B.V. In the USTR letter, the first word in the name of this company is spelled “Azko” instead of “Akzo.”

¹⁶ See Granular Polytetrafluoroethylene Resin From Italy: Final Results of Changed Circumstances Review, 68 FR 25327 (May 12, 2003).

Companies | Proceeding | Basis of current cash deposit rate
ArcelorMittal Stainless Belgium N.V.⁵ | Stainless Steel Plate in Coils from Belgium, A-423-808 | Stainless Steel Plate in Coils From Belgium: Final Results of Antidumping Duty Administrative Review, 74 FR 53468 (October 19, 2009).
Joint Stock Company Liepajas Metalurgs | Steel Concrete Reinforcing Bars from Latvia, A-449-804 | Notice of Final Results of Antidumping Duty Administrative Review: Steel Concrete Reinforcing Bars from Latvia, 71 FR 74900 (December 13, 2006).
CP Kelco ⁶ | Purified Carboxymethylcellulose from Finland, A-405-803 | Purified Carboxymethylcellulose From Finland; Notice of Final Results of Antidumping Duty Administrative Review, 75 FR 73035 (November 29, 2010).
Garofalo ⁷, Tomasello, Agritalia, Erasmo, Indalco, Labor, PAM, P.A.P., Afeltra, Fabianelli, Riscossa, Rustichella | Certain Pasta from Italy, A-475-818 | Certain Pasta From Italy: Notice of Final Results of the Fourteenth Antidumping Duty Administrative Review, 76 FR 76937 (December 9, 2011).
PAM (for non-selected rate), Garofalo (for non-selected rate), IAPC/Pasta Lensi ⁸ Pagani ⁹ |  | Certain Pasta from Italy: Notice of Amended Final Results of the Twelfth Antidumping Duty Administrative Review, 75 FR 11116 (March 10, 2010).
Divella,¹⁰ Pasta Zara, Gaetano, Felicetti |  | Certain Pasta From Italy: Notice of Final Results of the Eleventh Administrative Review and Partial Rescission of Review, 73 FR 75400 (December 11, 2008).
Atar,¹¹ Corticella/Combattenti |  | Notice of Final Results of the Ninth Administrative Review of the Antidumping Duty Order on Certain Pasta from Italy, 72 FR 7011 (February 14, 2007).
Barilla ¹² |  | Notice of Final Results of the Eighth Administrative Review of the Antidumping Duty Order on Certain Pasta From Italy and Determination to Revoke in Part, 70 FR 71464 (November 29, 2005).
Russo/Di Nola ¹³ |  | Notice of Final Results of the Seventh Administrative Review of the Antidumping Duty Order on Certain Pasta from Italy and Determination to Revoke in Part, 70 FR 6832 (February 9, 2005).
La Molisana ¹⁴ |  | Certain Pasta From Italy: Final Results of Antidumping Duty Administrative Review, 65 FR 77852 (December 13, 2000).
Akzo Nobel BV ¹⁵ | Purified Carboxymethylcellulose from the Netherlands, A-421-811 | Purified Carboxymethylcellulose From the Netherlands: Final Results of Antidumping Duty Administrative Review, 76 FR 66687 (October 27, 2011).
CP Kelco BV |  | Purified Carboxymethylcellulose From the Netherlands: Final Results of Antidumping Duty Administrative Review, 75 FR 77829 (December 14, 2010).
Roldan S.A. | Stainless Steel Wire Rod from Spain, A-469-807 | Stainless Steel Wire Rod from Spain; Final Results of Antidumping Duty Administrative Review, 66 FR 10988 (February 21, 2001).
Solvay Solexis SpA (formerly Ausimont SpA) ¹⁶ | Granular Polytetrafluoroethylene Resin from Italy, A-475-703 | Granular Polytetrafluoroethylene Resin From Italy: Amended Final Results of Antidumping Duty Administrative Review, 74 FR 19931 (April 30, 2009).
Nippon Kinzoku Co., Ltd. | Stainless Steel Sheet and Strip in Coils from Japan, A-588-845 | Stainless Steel Sheet and Strip in Coils from Japan: Final Results of Antidumping Duty Administrative Review, 75 FR 6631 (February 10, 2010).

On March 23, 2012, the Department issued its Preliminary Results for these section 129 proceedings.¹⁷ On April 9 and 10, 2012, the Department received case briefs from interested parties, and on April 16, 2012, the Department received rebuttal briefs. The Department issued its Final Results on June 6, 2012, in which it addressed all comments from interested parties.

¹⁷ Memorandum from Christian Marsh, Deputy Assistant Secretary for Antidumping and Countervailing Duty Operations, to Paul Piquado, Assistant Secretary for Import Administration, Preliminary Results for the Section 129 Proceedings: Stainless Steel Plate in Coils from Belgium, Steel Concrete Reinforcing Bars from Latvia, Purified Carboxymethylcellulose from Finland, Certain Pasta from Italy, Purified Carboxymethylcellulose from the Netherlands, Stainless Steel Wire Rod from Spain, Granular Polytetrafluoroethylene Resin from Italy, Stainless Steel Sheet and Strip in Coils from Japan (“Preliminary Results”).

On June 7-8, 2012, consistent with section 129(b)(3) of the URAA, the USTR held consultations with the Department and the appropriate congressional committees with respect to these Final Results. On June 8, 2012, in accordance with sections 129(b)(4) and 129(c)(1)(B) of the URAA, the USTR directed the Department to implement these Final Results.

Nature of the Proceedings

Section 129 of the URAA governs the nature and effect of determinations issued by the Department to implement findings by WTO dispute settlement panels and the Appellate Body. Specifically, section 129(b)(2) provides that “notwithstanding any provision of the Tariff Act of 1930,” within 180 days of a written request from the USTR, the Department shall issue a determination that would render its actions not inconsistent with an adverse finding of a WTO panel or the Appellate Body.¹⁸ The Statement of Administrative Action, U.R.A.A., H. Doc. 316, Vol. 1, 103d Cong. (1994) (“SAA”), variously refers to such a determination by the Department as a “new,” “second,” and “different” determination.¹⁹ After consulting with the Department and the appropriate congressional committees, the USTR may direct the Department to implement, in whole or in part, the new determination made under section 129.²⁰ Pursuant to section 129(c), the new determination shall apply with respect to unliquidated entries of the subject merchandise that are entered or withdrawn from warehouse, for consumption, on or after the date on which the USTR directs the Department to implement the new determination.²¹ The new determination is subject to judicial review, separate and apart from judicial review of the Department's original determination.²²

¹⁸ See 19 U.S.C. 3538(b)(2).

¹⁹ See SAA at 1025, 1027.

²⁰ See 19 U.S.C. 3538(b)(4).

²¹ See 19 U.S.C. 3538(c).

²² See 19 U.S.C. 1516a(a)(2)(B)(vii).

Final Results: Analysis of Comments Received

The issues raised in the case and rebuttal briefs submitted by interested parties to these proceedings are addressed in the Final Results. The issues included in the Final Results are (1) Targeted dumping, and (2) cash deposit rates for non-selected respondents. The Final Results is a public document and is on file electronically via Import Administration's Antidumping and Countervailing Duty Centralized Electronic Service System (“IA ACCESS”). Access to IA ACCESS is available in the Central Records Unit, room 7046 of the main Department of Commerce building. In addition, a complete version of the Final Results can be accessed directly on the Internet at http://www.trade.gov/ia/.

Final Results: Recalculated Cash Deposit Rates

The recalculated cash deposit rates, as included in the Final Results and which remain unchanged from the Preliminary Results for each company, are as follows:

Antidumping order (review period) | Manufacturer/exporter | Cash deposit rate: Underlying administrative review (%) | Cash deposit rate: Section 129 proceedings final results (%)
Stainless Steel Plate in Coils from Belgium (2007/08) | Amperam Stainless Belgium N.V | 6.57 | 0.00
Steel Concrete Reinforcing Bars from Latvia (2004/05) | Joint Stock Company Liepajas Metalurgs | 5.94 | 4.87
Purified Carboxymethylcellulose from Finland (2008/09) | CP Kelco Oy | 6.10 | 0.00
Certain Pasta from Italy (2009/10) | Pastificio Lucio Garofalo S.p.A | 3.20 | 0.00
| Molino e Pastificio Tomasello S.p.A | 4.18 | 0.00
| Agritalia S.r.L | 3.57 | 0.00
| Domenico Paone fu Erasmo S.p.A | 3.57 | 0.00
| Industria Alimentare Colavita, S.p.A | 3.57 | 0.00
| Labor S.r.L | 3.57 | 0.00
| PAM S.p.A. and Liguori Pastificio dal 1820 S.p.A | 3.57 | 0.00
| P.A.P. SNC Di Pazienza G.B. & C | 3.57 | 0.00
| Premiato Pastificio Afeltra S.r.L | 3.57 | 0.00
| Pastifico Fabianelli S.p.A | 3.57 | 0.00
| Pastificio Riscossa F.lli Mastromauro S.p.A | 3.57 | 0.00
| Rustichella d'Abruzzo S.p.A | 3.57 | 0.00
Certain Pasta from Italy (2007/08) | PAM S.p.A. and Liguori Pastificio dal 1820 S.p.A | 8.54 | 5.49
| Pastificio Lucio Garofalo S.p.A | 15.87 | 14.63
| Pasta Lensi S.r.L | 12.21 | 10.06
| Pastificio Fratelli Pagani S.p.A | 12.21 | 10.06
Certain Pasta from Italy (2006/07) | F. Divella S.p.A | 2.83 | 0.00
| Pasta Zara S.p.A. 1 and Pasta Zara S.p.A. 2 | 9.71 | 0.00
| Pastificio Di Martino Gaetano & F.lli S.r.L | 6.27 | 0.00
| Pastificio Felicetti S.r.L | 6.27 | 0.00
Certain Pasta from Italy (2004/05) | Atar, S.r.L | 18.18 | 0.00
| Corticella Molini e Pastifici S.p.A. and Pasta Combattenti S.p.A | 1.95 | 0.00
Certain Pasta from Italy (2003/04) | Barilla G.e.R. Fratelli S.p.A | 20.68 | 19.55
Certain Pasta from Italy (2002/03) | Pastificio Carmine Russo S.p.A. and Pastificio Di Nola S.p.A | 7.36 | 0.00
Certain Pasta from Italy (1998/99) | La Molisana Industrie Alimerntari S.p.A | 5.26 | 0.00
Purified Carboxymethylcellulose from the Netherlands (2009/10) | Akzo Nobel Functional Chemicals B.V | 3.57 | 0.00
Purified Carboxymethylcellulose from the Netherlands (2008/09) | CP Kelco B.V | 2.64 | 0.00
Stainless Steel Wire Rod from Spain (1998/99) | Roldan S.A | 0.80 | 0.00
Granular Polytetrafluoroethylene Resin from Italy (2006/07) | Solvay Solexis S.p.A | 79.45 | 79.45
Stainless Steel Sheet and Strip in Coils from Japan (2007/08) | Nippon Kinzoku Co., Ltd | 0.54 | 0.00

Implementation of the Revised Cash Deposit Requirements

On June 8, 2012, in accordance with sections 129(b)(4) and 129(c)(1)(B) of the URAA and after consulting with the Department and Congress, the USTR directed the Department to implement these Final Results. With respect to each of these proceedings, the Department will instruct U.S. Customs and Border Protection to require a cash deposit for estimated antidumping duties at the appropriate rate for each manufacturer/producer specified above, for entries of subject merchandise, entered or withdrawn from warehouse, for consumption, on or after June 8, 2012.

This notice of implementation of these section 129 Final Results is published in accordance with section 129(c)(2)(A) of the URAA.

Dated: June 11, 2012.
Paul Piquado,
Assistant Secretary for Import Administration.

[FR Doc. 2012-14734 Filed 6-15-12; 8:45 am]

BILLING CODE P